FEDERAL COMMUNICATIONS COMMISSION

47 CFR Parts 0 and 1

[WT Docket No. 04-435; DA 05-1015]

Facilitating the Use of Cellular Telephones and Other Wireless Devices Aboard Airborne Aircraft

ACTION: Proposed rule; extension of comment period.

SUMMARY: In this document, the Wireless Telecommunications Bureau (WTB) of the Federal Communications Commission (Commission) extends the periods for both the comment and reply comment deadlines established in the Notice of Proposed Rulemaking (NPRM) adopted by the Commission in the Airborne Cellular proceeding. The deadline to file comments is extended from April 11, 2005, to May 26, 2005, and the deadline to file reply comments is extended from May 9, 2005, to June 27, 2005. This action is taken to enable interested parties sufficient opportunity to review complex issues raised by the NPRM and to provide commenters a reasonable period of time to conduct the testing necessary to assess the potential interference issues associated with the use of pico cell systems and wireless devices onboard aircraft.

DATES: The agency must receive comments on or before May 26, 2005; and reply comments on or before June 27, 2005.

ADDRESSES: You may submit comments, identified by WT Docket No. 04-435, by any of the following methods:

• Federal eRulemaking Portal: http://www.regulations.gov. Follow the instructions for submitting comments.

• Federal Communications Commission's Web site: http://www.fcc.gov/cgb/ecfs/. Follow the instructions for submitting comments.

• Email: To receive filing instructions for e-mail comments, commenters should send an e-mail to ecfs@fcc.gov, and should include the following words in the body of the message, “get form <your e-mail address>.” A sample form and directions will be sent in reply. Include the docket number(s) in the subject line of the message.

• Mail: Appropriate addresses for submitting comments and reply comments may be found in the SUPPLEMENTARY INFORMATION section of this document.

• People with Disabilities: Contact the FCC to request reasonable accommodations (accessible format documents, sign language interpreters, CART, etc.) by e-mail: FCC504@fcc.gov or phone: 202-418-0530 or TTY: 202-418-0432.

Instructions: All submissions received must include the agency name and docket number or Regulatory Information Number (RIN) for this rulemaking. All comments received will be posted without change to http://www.fcc.gov/cgb/ecfs/, including any personal information provided.

Docket: For access to the docket to read background documents or comments received, go to http://www.fcc.gov/cgb/ecfs/.

FOR FURTHER INFORMATION CONTACT: Guy N. Benson, Wireless Telecommunications Bureau at 202-418-2946, or via the Internet at Guy.Benson@fcc.gov.

SUPPLEMENTARY INFORMATION: This is a summary of the Federal Communications Commission's Order (Order), DA 05-1015, in WT Docket No. 04-435, (2005 WL 771357 (F.C.C.)), adopted April 5, 2005, and released April 6, 2005, which extends the comment and reply comment filing deadlines in the Airborne Cellular proceeding. The full text of this document is available for public inspection and copying during regular business hours at the FCC Reference Information Center, 445 12th St., SW., Room CY-A257, Washington, DC 20554. The complete text may be purchased from the Commission's duplicating contractor: Best Copy & Printing, Inc., 445 12th Street, SW., Room CY-B402, Washington, DC, 20554, telephone 800-378-3160, facsimile 202-488-5563, or via e-mail at fcc@bcpiweb.com. The full text may also be downloaded at: http://www.fcc.gov. Alternative formats are available to persons with disabilities by contacting Brian Millin at (202) 418-7426 or TTY (202) 418-7365 or at Brian.Millin@fcc.gov.

Synopsis of the Order

1. On April 6, 2005, the WTB released an Order that extended the comment and reply comment filing deadlines established in the NPRM adopted by the Commission in this proceeding on December 15, 2004 in WT Docket No. 04-435; FCC 04-288 published at 70 FR 11916, March 10, 2005. In the NPRM, the Commission sought to replace or relax the prohibition on the airborne use of 800 MHz cellular telephones. In particular, the Commission proposed to allow the use of cellular telephones on airplanes so long as the phones are controlled by a pico cell installed onboard the aircraft. The Commission also sought comment on whether an industry-developed standard could facilitate the airborne use of cellular telephones while ensuring interference-free operations. Finally, the Commission sought comment as to whether cellular carriers should be allowed to provide service to airborne units on a secondary basis, subject to technical limitations aimed toward preventing harmful interference to airborne and terrestrial cellular operations.

2. Requests for an extension of time to file comments were filed by the Boeing Company, Nickolaus E. Leggett, jointly by Telenor Satellite Services, Inc. and ARINC, and by the U.S. Department of Justice/Federal Bureau of Investigations/Department of Homeland Security. In addition, Verizon Wireless filed comments in support of Boeing's request. The parties argue that the current comment period does not provide commenters with a sufficient length of time to conduct the testing and technical analysis necessary to submit thorough and meaningful responses.

Ordering Clauses

3. Pursuant to sections 4(i) and 4(j) of the Communications Act of 1934, as amended, 47 U.S.C. 154(i) and 154(j), and §§ 0.131, 0.331, and 1.46 of the Commission's rules, 47 CFR 0.131, 0.331, and 1.46, the deadline for filing comments in response to the NPRM, published on March 10, 2005, in this proceeding, is extended to May 26, 2005, and the deadline for filing reply comments is extended to June 27, 2005.

Federal Communications Commission.
Linda Chang,
Associate Chief, Mobility Division.

[FR Doc. 05-8411 Filed 4-26-05; 8:45 am]

BILLING CODE 6712-01-P